Proclamation 9097 of March 31, 2014

National Sexual Assault Awareness and Prevention Month, 2014

By the President of the United States of America

A Proclamation

Every April, our Nation comes together to renew our stand against a crime that affronts our basic decency and humanity. Sexual assault threatens every community in America, and we all have a role to play in protecting those we love most—our mothers and fathers, our husbands and wives, our daughters and sons. During National Sexual Assault Awareness and Prevention Month, we recommit to ending the outrage of sexual assault, giving survivors the support they need to heal, and building a culture that never tolerates sexual violence.

Thanks to dedicated activists and courageous survivors, we have made strides in reducing stigma, opened new shelters across our country, and given countless Americans a new sense of hope. A driving force behind much of this progress was the landmark Violence Against Women Act. Last year, I was proud to sign legislation that reauthorized and strengthened this law while also extending protections for underserved communities.

We have come a long way, but sexual violence remains an all-too-common tragedy. Today, an estimated one in five women is sexually assaulted in college. This is unacceptable. Because college should be a place where everyone can safely and confidently pursue their talents, I launched the White House Task Force to Protect Students from Sexual Assault. And because our Nation's backlog of rape kits means offenders may be free to strike again, I have proposed funding for coordinated community teams to address this problem. My Administration is working to stop sexual assaults wherever they occur, in both the civilian community and the Armed Forces. Together, we will continue to strengthen the criminal justice system, develop trauma-informed services, reach out to survivors, and focus aggressively on prevention.

Sexual assault is more than just a crime against individuals. When a young boy or girl withdraws because they are questioning their self-worth after an assault, that deprives us of their full potential. When a parent struggles to hold a job in the wake of a traumatic attack, the whole family suffers. And when a student drops out of school or a service member leaves the military because they were sexually assaulted, that is a loss for our entire Nation.

This month, let us recognize that we all have a stake in preventing sexual assault, and we all have the power to make a difference. Together, let us stand for dignity and respect, strengthen the fabric of our communities, and build a safer, more just world.

NOW, THEREFORE, I, BARACK OBAMA, President of the United States of America, by virtue of the authority vested in me by the Constitution and the laws of the United States, do hereby proclaim April 2014 as National Sexual Assault Awareness and Prevention Month. I urge all Americans to support survivors of sexual assault and work together to prevent these crimes in their communities.

IN WITNESS WHEREOF, I have hereunto set my hand this thirty-first day of March, in the year of our Lord two thousand fourteen, and of the Independence of the United States of America the two hundred and thirty-eighth.

[FR Doc. 2014-07782

Filed 4-3-14; 11:15 am]

Billing code 3295-F4